DEPARTMENT OF HEALTH AND HUMAN SERVICES

National Institutes of Health

National Institute of Dental & Craniofacial Research; Notice of Closed Meetings

Pursuant to section 1009 of the Federal Advisory Committee Act, as amended, notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Dental and Craniofacial Research Special Emphasis Panel; Review of Mentoring Network (UE5), DSR Member-Conflict (K), and Conference (R13) Grant Applications.

Date: October 29, 2024.

Time: 1:00 p.m. to 5:00 p.m.

Agenda: To review and evaluate grant applications.

Place: National Institute of Dental & Craniofacial Research 31 Center Drive Bethesda, MD 20892 (Virtual Meeting).

Contact Person: Jingshan Chen, Ph.D., Scientific Review Officer, Scientific Review Branch, Division of Extramural Activities, National Institute of Dental & Craniofacial Research, 31 Center Drive, Bethesda, MD 20892 (301) 451-2405 email: jingshan.chen@nih.gov.

Name of Committee: National Institute of Dental and Craniofacial Research Special Emphasis Panel; Review of Clinical Study Applications.

Date: October 30, 2024.

Time: 12:00 p.m. to 6:30 p.m.

Agenda: To review and evaluate grant applications.

Place: National Institute of Dental & Craniofacial Research 31 Center Drive Bethesda, MD 20892 (Virtual Meeting).

Contact Person: Yun Mei, MD Scientific Review Officer Scientific Review Branch National Institute of Dental & Craniofacial Research National Institutes of Health 31 Center Drive Bethesda, MD 20892 (301) 827-4639 email: yun.mei@nih.gov.

(Catalogue of Federal Domestic Assistance Program No. 93.121, Oral Diseases and Disorders Research, National Institutes of Health, HHS)

Dated: September 17, 2024.
Bruce A. George,
Program Analyst, Office of Federal Advisory Committee Policy.

[FR Doc. 2024-21589 Filed 9-19-24; 8:45 am]

BILLING CODE 4140-01-P